INTERNATIONAL TRADE COMMISSION

[USITC SE-05-010]

Government in the Sunshine Act Meeting Notice

AGENCY HOLDING THE MEETING: United States International Trade Commission.

TIME AND DATE: April 13, 2005, at 11 a.m.

Place: Room 101, 500 E Street, SW., Washington, DC 20436, telephone: (202) 205-2000.

STATUS: Open to the public.

MATTERS TO BE CONSIDERED:

1. Agenda for future meetings: none.

2. Minutes.

3. Ratification List.

4. Inv. No. 731-TA-125 (Second Review) (Potassium Permanganate from China)—briefing and vote. (The Commission is currently scheduled to transmit its determination and Commissioners' opinions to the Secretary of Commerce on or before April 27, 2005.)

5. Inv. Nos. 701-TA-439 and 731-TA-1077, 1078, and 1080 (Final) (Polyethylene Terephthalate (PET) Resin from India, Indonesia, and Thailand)—briefing and vote. (The Commission is currently scheduled to transmit its determination and Commissioners' opinions to the Secretary of Commerce on or before April 26, 2005.)

6. Outstanding action jackets: none.

In accordance with Commission policy, subject matter listed above, not disposed of at the scheduled meeting, may be carried over to the agenda of the following meeting.

By order of the Commission:
Issued: March 24, 2005.
Marilyn R. Abbott,
Secretary to the Commission.

[FR Doc. 05-6284 Filed 3-25-05; 12:47 pm]

BILLING CODE 7020-02-P